DEPARTMENT OF COMMERCE

Bureau of the Census

[Docket Number 0811251517-81520-01]

Annual Surveys in the Manufacturing Area

AGENCY: Bureau of the Census, Commerce.

ACTION: Notice of determination.

SUMMARY: The Bureau of the Census (Census Bureau) is conducting the 2008 Annual Surveys in the Manufacturing Area. The 2008 Annual Surveys consist of the Current Industrial Reports surveys, the Annual Survey of Manufactures, and the Business Research and Development (R&D) and Innovation Survey. We have determined that annual data collected from these surveys are needed to aid the efficient performance of essential governmental functions and have significant application to the needs of the public and industry. The data derived from these surveys, most of which have been conducted for many years, are not publicly available from non-governmental or other governmental sources.

ADDRESSES: The Census Bureau will furnish report forms to organizations included in each survey. Additional copies of the surveys are available upon written request to the Director, U.S. Census Bureau, Washington, DC 20233-0101.

FOR FURTHER INFORMATION CONTACT: Thomas E. Zabelsky, Chief, Manufacturing and Construction Division, on (301) 763-4598.

SUPPLEMENTARY INFORMATION: The Census Bureau is authorized to conduct mandatory surveys necessary to furnish current data on the subjects covered by the major censuses authorized by Title 13, United States Code (U.S.C.), Sections 61, 81, 131, 182, 193, 224, and 225.

These surveys will provide continuing and timely national statistical data on manufacturing for the period between economic censuses. The data collected in the surveys will be within the general scope and nature of those inquiries covered in the economic censuses. The next economic censuses will be conducted for the year 2012.

Current Industrial Reports

Most of the following commodity or product surveys provide data on shipments or production, stocks, unfilled orders, orders booked, consumption, and so forth. Reports will be required of all, or a sample of, establishments engaged in the production of the items covered by the following list of surveys:

Survey Title
MA311D | Confectionery
MA314Q | Carpets and Rugs
MA321T | Lumber Production and Mill Stocks
MA325F | Paint and Allied Products
MA325G | Pharmaceutical Preparations, except Biologicals
MA327C | Refractories
MA327E | Consumer, Scientific, Technical, and Industrial Glassware
MA331B | Steel Mill Products
MA332Q | Antifriction Bearings
MA333A | Farm Machinery and Lawn and Garden Equipment
MA333D | Construction Machinery
MA333F | Mining Machinery and Mineral Processing Equipment
MA333M | Air-conditioning and Refrigeration
MA333N | Fluid Power Products for Motion Control (Including Aerospace)
MA333P | Pumps and Compressors
MA334A | Electromedical Equipment and Analytical Instruments
MA334C | Control Instruments
MA334D | Defense, Navigational, and Aerospace Electronics
MA334M | Consumer Electronics
MA334Q | Semiconductors, Printed Circuit Boards, and other Electronic Components
MA334T | Meters and Test Devices
MA335E | Electric Housewares and Fans
MA335F | Major Household Appliances
MA335J | Insulated Wire and Cable
MA335K | Wiring Devices and Supplies
MA336G | Aerospace Industries (Orders, Sales, and Backlog)

The following list of surveys represents annual counterparts of monthly and quarterly surveys, and will cover only those establishments that are not canvassed, or do not report, in the more frequent surveys. Accordingly, there will be no duplication in reporting. The content of these annual reports (listed below) will be identical with that of the monthly and quarterly reports:

Survey Title
M311C | Corn (Wet & Dry Producers of Ethanol)
M311H | Fats and Oils (Warehouse)
M311J | Oilseeds, Beans, and Nuts (Primary Producers)
M311L | Fats and Oils (Renderers)
M311M | Fats and Oils (Consumers)
M311N | Fats and Oils (Producers)
M313P | Consumption on the Cotton System and Stocks
M313N | Cotton and Raw Linters in Public Storage
M327G | Glass Containers
M336G | Civil Aircraft and Aircraft Engines
MQ311A | Flour Milling Products
MQ313A | Textiles
MQ315A | Apparel
MQ315B | Socks
MQ325A | Inorganic Chemicals
MQ325B | Fertilizer Materials
MQ325F | Paint, Varnish, and Lacquer
MQ327D | Clay Construction Products
MQ333W | Metalworking Machinery
MQ334P | Telecommunications
MQ334R | Computers and Peripheral Equipment

Annual Survey of Manufactures

The Annual Survey of Manufactures collects industry statistics, such as total value of shipments, employment, payroll, workers' hours, capital expenditures, cost of materials consumed, supplemental labor costs, and so forth. This survey, conducted on a sample basis, covers all manufacturing industries, including data on plants under construction but not yet in operation.

Business R&D and Innovation Survey

The Business R&D and Innovation Survey (BRDIS) measures spending on research and development activities in U.S. businesses. This survey replaces the Survey of Industrial Research and Development that has been collected since the 1950's. The BRDIS will collect global as well as domestic spending information, more detailed information about the R&D workforce, and information regarding innovation and intellectual property from U.S. businesses. The Census Bureau collects and compiles this information in accordance with a joint project agreement between the National Science Foundation (NSF) and the Census Bureau. The NSF publishes the results in its publication series. All data items are collected on a mandatory basis under the authority of Title 13, U.S.C.

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 35, the OMB approved the 2008 Annual Surveys under the following OMB control numbers: Current Industrial Reports—0607-0476; Annual Survey of Manufactures—-0607-0449; and Business R&D and Innovation Survey—0607-0912.

Based upon the foregoing, I have directed that the Annual Surveys in the Manufacturing Area be conducted for the purpose of collecting these data.

Dated: December 10, 2008.
Steve H. Murdock,
Director, Bureau of the Census.

[FR Doc. E8-29687 Filed 12-15-08; 8:45 am]

BILLING CODE 3510-07-P